DEPARTMENT OF COMMERCE

National Oceanic and Atmospheric Administration

RIN 0648-XO45

[File No. 14241]

Marine Mammals

AGENCY: National Marine Fisheries Service (NMFS), National Oceanic and Atmospheric Administration (NOAA), Commerce.

ACTION: Notice; receipt of application for permit amendment.

SUMMARY: Notice is hereby given that Dr. Peter Tyack, Woods Hole Oceanographic Institution, Woods Hole, MA has applied for an amendment to Permit No. 14241-02 to conduct research on marine mammals.

ADDRESSES: The application and related documents are available for review by selecting “Records Open for Public Comment” from the Features box on the Applications and Permits for Protected Species home page, https://apps.nmfs.noaa.gov, and then selecting File No. 14241 from the list of available applications.

These documents are also available upon written request or by appointment in the following office(s):

Permits, Conservation and Education Division, Office of Protected Resources, NMFS, 1315 East-West Highway, Room 13705, Silver Spring, MD 20910; phone (301) 427-8401; fax (301) 713-0376;

Northeast Region, NMFS, 55 Great Republic Drive, Gloucester, MA 01930; phone (978) 281-9300; fax (978) 281-9333; and

Southeast Region, NMFS, 263 13th Avenue South, Saint Petersburg, Florida 33701; phone (727) 824-5312; fax (727) 824-5309.

FOR FURTHER INFORMATION CONTACT: Tammy Adams or Carrie Hubard, (301) 427-8401.

SUPPLEMENTARY INFORMATION: The subject amendment to Permit No. 14241-02 is requested under the authority of the Marine Mammal Protection Act of 1972, as amended (16 U.S.C. 1361 et seq.), and the regulations governing the taking and importing of marine mammals (50 CFR part 216).

Permit No. 14241, issued on July 15, 2009 (74 FR 3668), authorizes the permit holder to conduct research on cetacean behavior, sound production, and responses to sound. The research methods include tagging marine mammals with an advanced digital sound recording tag that records the acoustic stimuli an animal hears and measures vocalization, behavior, and physiological parameters. Research also involves conducting sound playbacks in a carefully controlled manner and measuring animals' responses. The principal study species are beaked whales, especially Cuvier's beaked whale (Ziphius cavirostris), and large delphinids such as long-finned pilot whales (Globicephala melas), although other small cetacean species may also be studied. The locations for the field work are the Mediterranean Sea, waters off of the mid-Atlantic United States, and Cape Cod Bay. The permit has been amended twice since issuance. Amendment number 1 (Permit No. 14241-01) issued on July 27, 2010 (75 FR 47779): (1) Included authorization for collection of a skin and blubber biopsy sample from animals that are already authorized to be tagged; (2) added new species for existing projects involving tagging, playbacks, and behavioral observations; and (3) modified and clarified tagging and playback protocols and mitigation for when dependent calves are present. Amendment number 2 (Permit No. 14241-02), a minor amendment, issued on April 4, 2011, modified the sound source protocols and added zinc oxide marking for animals being tagged or biopsied. The permit, as amended, is valid through July 31, 2014.

The permit holder is requesting the permit be amended to: (1) Add one new species, Atlantic spotted dolphin (Stenella frontalis), for field work in waters off Georgia, North Carolina, South Carolina, and Virginia; (2) add a new project to Dtag the following species in waters off the west coast of North America: Baird's beaked whale (Berardius bairdii), Cuvier's beaked whale, Risso's dolphin (Grampus griseus), killer whale (Orcinus orca) and Mesoplodont beaked whales (Mesoplodon spp); (3) add a new procedure for marking cetaceans with zinc oxide; (4) add satellite tagging to long-finned pilot whales in approaches to the Mediterranean; and (5) switch some of the playback takes initially located in the Mediterranean and eastern North Atlantic to the same stocks of long-finned and short-finned (G. macrorhynchus) pilot whales in a subset of a location that is already part of the permit in waters near Cape Hatteras. The amendment would not change the expiration date of the permit.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: November 28, 2011.
Tammy C. Adams,
Acting Chief, Permits, Conservation and Education Division, Office of Protected Resources, National Marine Fisheries Service.

[FR Doc. 2011-31036 Filed 12-1-11; 8:45 am]

BILLING CODE 3510-22-P